NUCLEAR WASTE TECHNICAL REVIEW BOARD

Nuclear Waste Technical Review Board; Meeting

Board meeting: June 21, 2017—The U.S. Nuclear Waste Technical Review Board will meet in Richland, WA to discuss recent DOE research on borosilicate high-level radioactive waste glass.

Pursuant to its authority under section 5051 of Public Law 100-203, Nuclear Waste Policy Amendments Act (NWPAA) of 1987, the U.S. Nuclear Waste Technical Review Board will hold an open public meeting in Richland, Washington, on Wednesday, June 21, 2017, to review information on recent U.S. Department of Energy (DOE) research activities related to corrosion and long-term performance of borosilicate high-level radioactive waste (HLW) glass.

The Nuclear Waste Policy Amendments Act (NWPAA) of 1987 charges the Board with performing an ongoing and independent evaluation of the technical and scientific validity of DOE activities related to the disposition of spent nuclear fuel (SNF) and HLW.

The Board meeting will be held at the Courtyard Richland Columbia Point, 480 Columbia Point Drive, Richland, WA 99352; Tel 509-942-9400. A block of rooms has been reserved for meeting attendees at a rate of $96.00 per night. Reservations may be made by phone(1-888-236-2427, refer to group code NUCG) or online (http://www.marriott.com/NWTRB meeting). Reservations must be made by Monday, May 22, 2017, to ensure receiving the meeting rate. On-site parking at the hotel is complimentary.

The meeting will begin at 8:00 a.m. on Wednesday, June 21, 2017, and is scheduled to adjourn at 5:20 p.m. Speakers from U.S. national laboratories will present DOE-funded work during Fiscal Years 2015 to 2017 on HLW glass corrosion and long-term performance. Experts from other countries will provide their perspectives on the current understanding and remaining challenges in measuring and modeling glass performance. Immediately after the meeting, there will be a poster session during which scientists and engineers from universities and national laboratories will present their research related to waste glass corrosion.

A detailed meeting agenda will be available on the Board's Web site at www.nwtrb.gov approximately one week before the meeting. The agenda may also be requested by email or telephone at that time from Davonya Barnes of the Board's staff.

The meeting will be open to the public, and opportunities for public comment will be provided before the lunch break and at the end of the day. Those wanting to speak are encouraged to sign the “Public Comment Register” at the check-in table. Depending on the number of people who sign up to speak, it may be necessary to set a time limit on individual remarks. However, written comments of any length may be submitted, and all comments received in writing will be included in the record of the meeting, which will be posted on the Board's Web site after the meeting. The meeting will be webcast, and the link to the webcast will be available on the Board's Web site (www.nwtrb.gov) a few days before the meeting. An archived version of the webcast will be available on the Board's Web site following the meeting. The transcript of the meeting will be available on the Board's Web site no later than July 20, 2017.

The Board was established in the NWPAA as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's Web site.

For information on the meeting agenda, contact Roberto Pabalan: pabalangnwtrb.gov or Karyn Severson: seversongnwtrb.gov. For information on lodging or logistics, contact Eva Moore: mooreinwtrb.gov. To request copies of the meeting agenda or the transcript, contact Davonya Barnes: bames@nwtrb.gov. All four can be reached by mail at 2300 Clarendon Boulevard, Suite 1300, Arlington, VA 22201-3367; by telephone at 703-235-4473; or by fax at 703-235-4495.

Dated: May 2, 2017.
Nigel Mote,
Executive Director, U.S. Nuclear Waste Technical Review Board.

[FR Doc. 2017-09344 Filed 5-9-17; 8:45 am]

BILLING CODE M